INTERNATIONAL TRADE COMMISSION

[Investigation No. 731-TA-1021 (Third Review)]

Malleable Iron Pipe Fittings From China; Determination

On the basis of the record ¹ developed in the subject five-year review, the United States International Trade Commission (“Commission”) determines, pursuant to the Tariff Act of 1930 (“the Act”), that revocation of the antidumping duty order on Malleable Iron Pipe Fittings from China would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted this review on July 1, 2019 (84 FR 31346) and determined on October 4, 2019 that it would conduct an expedited review (84 FR 55172, October 15, 2019).

The Commission made this determination pursuant to section 751(c) of the Act (19 U.S.C. 1675(c)). It completed and filed its determination in this review on November 19, 2019. The views of the Commission are contained in USITC Publication 4993 (November 2019), entitled Malleable Iron Pipe Fittings from China: Investigation No. 731-TA-1021 (Third Review).

By order of the Commission.
Issued: November 20, 2019.
Lisa Barton,
Secretary to the Commission.

[FR Doc. 2019-25501 Filed 11-22-19; 8:45 am]

BILLING CODE 7020-02-P